DEPARTMENT OF HOMELAND SECURITY

Federal Emergency Management Agency

[Docket ID FEMA-2008-0010]

Board of Visitors for the National Fire Academy

AGENCY: Federal Emergency Management Agency, DHS.

ACTION: Committee Management; Notice of Open Federal Advisory Committee Meeting.

SUMMARY: The Board of Visitors for the National Fire Academy (Board) will meet via teleconference on Thursday, April 17, 2014. The meeting will be open to the public.

DATES: The meeting will take place on Thursday, April 17, 3:00 to 4:30 p.m. Eastern Daylight Time. Please note that the meeting may close early if the Board has completed its business.

ADDRESSES: Members of the public who wish to participate in the teleconference should contact Cindy Wivell as listed below in the FOR FURTHER INFORMATION CONTACT section by close of business April 15, 2014, to obtain the call-in number and access code. For information on services for individuals with disabilities or to request special assistance, contact Cindy Wivell as soon as possible.

To facilitate public participation, we are inviting public comment on the issues to be considered by the Board as listed in the SUPPLEMENTARY INFORMATION section. Comments must be submitted in writing no later than April 15, 2014, and must be identified by Docket ID FEMA-2008-0010 and may be submitted by one of the following methods:

• Federal eRulemaking Portal: http://www.regulations.gov. Follow the instructions for submitting comments.

• Mail/Hand Delivery: Cindy Wivell, 16825 South Seton Avenue, Emmitsburg, Maryland 21727.

Instructions: All submissions received must include the words “Department of Homeland Security” and the Docket ID for this action. Comments received will be posted without alteration at http://www.regulations.gov, including any personal information provided.

Docket: For access to the docket to read background documents or comments received by the National Fire Academy Board of Visitors, go to http://www.regulations.gov, click on “Advanced Search,” then enter “FEMA-2008-0010” in the “By Docket ID” box, then select “FEMA” under “By Agency,” and then click “Search.” Prior to the meeting, handouts for the meeting will be posted at http://www.usfa.fema.gov/nfa/bov.shtm by April 9, 2014.

There will be a 10-minute public comment period. Each speaker will be given no more than 2 minutes to speak. Please note that the public comment period may end before the time indicated, following the last call for comments. Contact Cindy Wivell to register as a speaker.

FOR FURTHER INFORMATION CONTACT:

Alternate Designated Federal Officer: Denis G. Onieal, telephone (301) 447-1117.

Logistical Information: Cindy Wivell, telephone (301) 447-1157, fax (301) 447-1834, and email Cindy.Wivell@fema.dhs.gov.

SUPPLEMENTARY INFORMATION: The Board of Visitors for the National Fire Academy (Board) will meet via teleconference on Thursday, April 17, 2014. The meeting will be open to the public. Notice of this meeting is given under the Federal Advisory Committee Act, 5 U.S.C. App. (Pub. L. 92-463).

Purpose of the Board

The purpose of the Board is to review annually the programs of the National Fire Academy (NFA) and advise the Administrator of the Federal Emergency Management Agency (FEMA), through the United States Fire Administrator, of the operation of the NFA and any improvements therein that the Board deems appropriate. In carrying out its responsibilities, the Board examines NFA programs to determine whether these programs further the basic missions that are approved by the Administrator of FEMA, examines the physical plant of the NFA to determine the adequacy of the NFA's facilities, and examines the funding levels for NFA programs. The Board submits a written annual report, through the United States Fire Administrator, to the Administrator of FEMA. The report provides detailed comments and recommendations regarding the operation of the NFA.

Agenda

At its December 2013 meeting, the Board recommended establishing a two-year NFA Managing Officer Program designed to enhance the management and leadership skills of first-line to mid-level managers in their fire and emergency medical service organizations. Two subcommittees were established by the Designated Federal Officer to review curriculum and admissions and final project guidelines. The Board will review reports from these subcommittees, deliberate, and develop recommendations for presentation to the FEMA Administrator through the U.S. Fire Administrator.

Dated: March 26, 2014.
Denis G. Onieal,
Superintendent, National Fire Academy, United States Fire Administration, Federal Emergency Management Agency.

[FR Doc. 2014-07412 Filed 4-1-14; 8:45 m]

BILLING CODE 9111-45-P